DEPARTMENT OF COMMERCE

Economic Development Administration

Notice of Petitions by Producing Firms for Determination of Eligibility To Apply for Trade Adjustment Assistance

AGENCY: Economic Development Administration (EDA), Commerce.

ACTION: To give firms an opportunity to comment.

Petitions have been accepted for filing on the dates indicated from the firms listed below.

List of Petition Action by Trade Adjustment Assistance for Period 5/18/01-6/18/01
Firm name | Address | Date petition accepted | Product
Albany Woodworks, Inc | 30380 Payne Alley, Tickfaw, LA 70711 | 05/25/01 | Door, frames, trim molding and wood floors.
Follett Corporation | 801 Church Lane, Easton, PA 18044 | 05/25/01 | Ice and water dispensing machinery and ice makers for the healthcare and food service industries.
Bearse Manufacturing Co., Inc | 3815 West Cortland Street, Chicago, IL 60647 | 05/25/01 | Luggage and garment bags of nylon, and bags for hand tool dust collection and filtration.
Everbrite, Inc | 4949 S. 110th Street, Greenfield, WI 53228 | 05/25/01 | Illuminated signs.
Harper Manufacturing Co., Inc | 617 Lachiocotte Road, Lugoff, SC 29078 | 06/04/01 | Wooden furniture for the bedroom.
Konkolville Lumber Co., Inc | 2705 E. Michigan Avenue, Orofino, ID 83544 | 06/04/01 | Douglas fir and larch lumber.
Pine Hill Plastics, Inc | 10261 Smithville Highway, McMinnville, TN 37111 | 06/04/01 | Plastic injection component molds for air conditioners, telephone hand sets, and small appliances.
DaMa Jewelry Technology, Inc | 25 Oakdale Avenue, Johnston, RI 02919 | 06/04/01 | Earring clutches, posts and clips.
Chuck Roast Equipment, Inc | Odell Hill Road, Conway, NH 03818 | 06/04/01 | Men's women's and children's fleece outerwear and sportwear.
Blitz U.S.A., Inc | 404 26th Avenue, NW., Miami, Oklahoma 74354 | 06/04/01 | Plastic gas containers, funnels and pans for the automotive industry.
Ronson Machine & Manufacturing, Inc | 3000 Little Blue Expressway, Independence, MO 64057 | 06/05/01 | Fabricated sheet metal boxes.
Inland-Joseph Fruit Company | 300 North Frontage Road, Wapato, WA 98951 | 06/06/01 | Fruits—pears, applies, cherries, peaches, nectarines, apricots, plums and prunes.
Hotwatt, Inc | 128 Maple Street, Danvers, MA 01923 | 06/12/01 | Dielectric heating elements.
Apeasay, Inc | 789 Highline Road, Hood River, OR 97031 | 06/12/01 | Pears and apples.
Tahoe Jewelry, Inc | 20 J. Medeiros Way, East Providence, RI 02914 | 06/13/01 | Women's costume necklaces, bracelets, earrings, pins, cuff links and rings.

The petitions were submitted pursuant to Section 251 of the Trade Act of 1974 (U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: June 19, 2001.
Anthony J. Meyer,
Coordinator, Trade Adjustment and Technical Assistance.

[FR Doc. 01-16242 Filed 6-27-01; 8:45 am]

BILLING CODE 3510-24-M